DEPARTMENT OF ENERGY

Federal Energy Regulatory Commission

[Docket No. AD05-015-000]

Notice of Hydro Licensing Status Workshop 2005

Hydro Licensing Status Workshop 2005: Avondale Mills, Inc., Project No. 5044-008; Central Maine Power Company, Project No. 2283-005; Central Vermont Public Service Corporation, Project Nos. 11475-000 and 11478-000; City of Escondido, California, Project No. 176-018; El Dorado Irrigation District, Project No. 84-065; Enterprise Mill, LLC, Project No. 2935-015; Fort James Operating Company, Project No. 2312-014; Green Mountain Power Corporation, Project No. 2090-003; Niagara Mohawk Power Corporation, Project No. 2539-003; PacifiCorp, Project Nos. 2342-005, 2659-011, and 2071-013; Pacific Gas & Electric Co., Project Nos. 233-081 and 2105-089; PUD No. 1 of Chelan County, Project No. 637-022; S.D. Warren Company, Project No. 2984-042; Southern California Edison Company, Project No. 2086-035; Stinson Morrison Hecker, LLP, Project No. 2721-013; United Water Conservation District, Project No. 2153-012

September 30, 2005.

A one-day, Commissioner-led workshop will be held on Thursday, December 1, 2005, beginning at 10 a.m. (e.s.t.), in the Commission Meeting Room at the Federal Energy Regulatory Commission, 888 First Street, NE., Washington, DC. The workshop will focus on the above-listed pending license applications filed at the Commission. The workshop is open to the public and all interested persons are invited to attend and participate.

The goals of the workshop are to: (1) Review and discuss the pending license applications; (2) identify unresolved issues; (3) determine next steps; (4) agree on who will take the next steps; and (5) focus on solutions. The workshop will concentrate on identifying the unresolved issues associated with each project, and determining the best course of action to resolve or remove obstacles to final action on each pending license application.

A transcript of the discussions will be placed in the public record for Docket No. AD05-015-000 and in the record for each of the pending license applications.

Filing Requirements for Electronic or Paper Filings

Comments, papers, or other documents related to this proceeding may be filed electronically or in paper format. Those filing electronically do not need to make a paper filing.

The Commission strongly encourages electronic filings. Documents filed electronically via the Internet must be prepared in MS Word or Portable Document Format. To file the document, access the Commission's Web site at www.ferc.gov, click on “e-Filing” and then follow the instructions on the screen. First-time users will have to establish a user name and password. The Commission will send an automatic acknowledgment to the sender's e-mail address upon receipt of comments. User assistance for electronic filing is available at (202) 502-8258 or by e-mail to efiling@ferc.gov. Comments should not be submitted to the e-mail address.

For paper filings, the original and 8 copies of the comments should be submitted to the Office of the Secretary, Federal Energy Regulatory Commission, 888 First Street, NE., Washington, DC 20426. Paper filings should, at the top of the first page, refer to Docket No. AD05-015-000 and reference the specific project name(s) and project number(s) that the comments concern.

All comments will be placed in the Commission's public files and will be available for inspection in the Commission's Public Reference Room at 888 First Street, NE., Washington, DC 20426, during regular business hours. Additionally, all comments may be viewed on the Commission's Web site at www.ferc.gov using the “eLibrary” link. For assistance, call toll free 1-866-208-3676, or for TTY (202) 502-8659, or by e-mail to FERCOnlineSupport@ferc.gov.

Opportunities for Listening, Participating, and Viewing the Workshop Offsite and Obtaining a Transcript

The workshop will be transcribed. Those interested in transcripts immediately for a fee should contact Ace-Federal Reporters, Inc. at (202) 347-3700, or 1-800-336-6646. Transcripts will be available free to the public on the Commission's e-Library system about two weeks after the workshop.

For those involved in the specific projects to be discussed, we believe the best way to achieve the goals of the workshop is for you and your staff to attend the workshop in person and have an open and frank face-to-face dialogue. However, we understand that budgetary and other constraints may limit travel to Washington, DC. Therefore, we have made alternative arrangements for you to listen, view, or participate in the workshop through the Internet, video conferencing, or teleconferencing.

The Capitol Connection offers the opportunity for remote listening and viewing of the conference. It is available for a fee, live over the Internet, by phone or via satellite. Persons interested in receiving the broadcast, or who need information on making arrangements should contact David Reininger or Julia Morelli at the Capitol Connection (703) 993-3100 as soon as possible or visit the Capitol Connection Web site at http://www.capitolconnection.org and click on “FERC”.

FERC conferences are accessible under section 508 of the Rehabilitation Act of 1973. For accessibility accommodations please send an e-mail to accessibility@ferc.gov or call toll free 1-866-208-3372 (voice) or (202) 208-1659 (TTY), or send a FAX to (202) 208-2106 with the required accommodations.

Anyone wishing to participate via teleconference should call or e-mail Kim Nguyen at (202) 502-6105 or kim.nguyen@ferc.gov by November 21, 2005, to receive the toll free telephone number to join the teleconference.

Anyone interested in participating in the workshop via video teleconference from one of the Commission's regional offices should call or e-mail the following staff, by November 21, 2005, to make arrangements. Seating capacity is limited.

Regional office | Staff contact | Telephone no. | E-mail address
Atlanta | Charles Wagner | 770-452-3765 | charles.wagner@ferc.gov.
Chicago | Michael Davis | 312-596-4434 | michael.davis@ferc.gov.
New York | Chuck Goggins | 212-273-5910 | charles.goggins@ferc.gov.
Portland | Pat Regan | 503-552-2741 | patrick.regan@ferc.gov.
San Francisco | John Wiegel | 415-369-3336 | john.wiegel@ferc.gov.

By November 21, 2005, an agenda for the workshop and information about the pending license applications will be posted on the Commission's calendar located at http://www.ferc.gov/EventCalendar/EventsList.aspx along with other related information. Anyone without access to the Commission's Web site, or who has questions should contact Kim Nguyen at (202) 502-6105, or e-mail kim.nguyen@ferc.gov.

Magalie R. Salas,
Secretary.

[FR Doc. E5-5502 Filed 10-5-05; 8:45 am]

BILLING CODE 6717-01-P